DEPARTMENT OF ENERGY

Federal Energy Regulatory Commission

[Docket No. RP00-341-001]

Egan Hub Partners, L.P.; Notice of Compliance Filing

November 27, 2001.

Take notice that on November 20, 2001, Egan Hub Partners, L.P. (Egan Hub) tendered for filing pro forma tariff sheets in compliance with Order Nos. 637, et seq.

Egan Hub states that the purpose of this filing is to comply with the requirement of Order Nos. 637, et seq. either to file pro forma tariff sheets that implement certain tariff changes relating to scheduling procedures, capacity segmentation, imbalance management, and penalties, or to explain why the Order No. 637 requirements do not apply to the pipeline's tariff and operating practices.

Egan Hub states that copies of its filing have been mailed to all affected customers and interested state commissions.

Egan Hub proposes that the Commission grant interested parties thirty days from the date of the filing within which to submit initial comments regarding the filing, and a further twenty day period within which Egan Hub may submit reply comments.

Any person desiring to file initial comments in said filing should file the comments with the Federal Energy Regulatory Commission, 888 First Street, NE., Washington, DC 20426. All initial comments must be filed on or before December 20, 2001. Egan must file reply comments to the initial comments on or before January 9, 2002. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

David P. Boergers,
Secretary.

[FR Doc. 01-29858 Filed 11-30-01; 8:45 am]

BILLING CODE 6717-01-P